DEPARTMENT OF COMMERCE

International Trade Administration

[Application No. 87-8A001]

Export Trade Certificate of Review

ACTION: Correction of Previously Published Notice of Application (#87-8A001) to Amend an Export Trade Certificate of Review Issued to Independent Film and Television Alliance (formerly named American Film Marketing Association).

SUMMARY: Export Trading Company Affairs (“ETCA”), International Trade Administration, Department of Commerce, has received an application to amend an Export Trade Certificate of Review (“Certificate”). A notice summarizing the proposed amendment was published in the Federal Register on December 15, 2008 (73 FR 75999), requesting comments relevant to whether the amended Certificate should be issued. The Federal Register notice published on December 15, 2008, contained errors. This correction notice supersedes the notice dated December 15, 2008.

FOR FURTHER INFORMATION CONTACT: Jeffrey Anspacher, Director, Export Trading Company Affairs, International Trade Administration, (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a non-confidential version of the comments (identified as such) should be included. Any comments not marked as privileged or confidential business information will be deemed to be non-confidential. An original and five (5) copies, plus two (2) copies of the non-confidential version, should be submitted no later than 20 days after the date of this notice to: Export Trading Company Affairs, International Trade Administration, U.S. Department of Commerce, Room 7021X, Washington, DC 20230. Information submitted by any person is exempt from disclosure under the Freedom of Information Act (5 U.S.C. 552). However, non-confidential versions of the comments will be made available to the applicant if necessary for determining whether or not to issue the Certificate. Comments should refer to this application as “Export Trade Certificate of Review, application number 87-8A001.”

A summary of the application for an amendment follows.

Summary of the Application:

Applicant: Independent Film and Television Alliance (“IFTA”), 10850 Wilshire Blvd., 9th Floor, Los Angeles, CA 90024.

Contact: Jerald A. Jacobs, Attorney to IFTA, Telephone: (202) 663-8011.

Application No.: 87-8A001.

Date Deemed Submitted: December 1, 2008.

The original IFTA Certificate was issued on April 10, 1987 (52 FR 12578, April 17, 1987) and last amended on August 6, 2003 (68 FR 48342, August 13, 2003).

Proposed Amendment: IFTA seeks to amend its Certificate to:

1. Change name of the Certificate holder from “American Film Marketing Association” to the new listing “Independent Film and Television Alliance”;

2. Add each of the following companies as a new “Member” of the Certificate within the meaning of section 325.2(1) of the Regulations (15 CFR 325.2(1)):

111 Pictures Ltd, London, United Kingdom.

2929 International, LLC, Beverly Hills, CA.

Action Concept Film und Stuntproduktion GmbH, Huerth/Cologne, Germany.

Alpine Pictures, Inc., Burbank, CA.

American Cinema International, Van Nuys, CA.

American World Pictures, Encino, CA.

Artist View Entertainment, Inc., Studio City, CA.

AV Pictures Ltd, London, United Kingdom.

Bleiberg Entertainment, Beverly Hills, CA.

Bold Films L.P., Los Angeles, CA.

Boll AG, Mainz, Germany.

Brainstorm Media, Beverly Hills, CA.

Brightlight Pictures Inc., Burnaby, Canada.

Capella International Inc., Los Angeles, CA.

Celluloid Dreams, Paris, France.

Cinamour Entertainment, Encino, CA.

Cine Excel Entertainment, Inc., Gardena, CA.

Cinema Management Group, West Hollywood, CA.

Cinesavvy, Inc., Toronto, Canada.

CJ Entertainment Inc., Seoul, Republic of (South) Korea.

Classic Media, Inc., New York, NY.

ContentFilm International, London, United Kingdom.

Continental Entertainment Capital, Beverly Hills, CA.

DeAPlaneta, Barcelona, Spain.

Distribution Workshop, Kowloon Tong, Hong Kong.

E! Entertainment Television Networks, Los Angeles, CA.

Ealing Studios International, London, United Kingdom.

Echo Bridge Entertainment, Needham, MA.

Emperor Motion Pictures, Wanchai, Hong Kong.

Epic Pictures Group, Inc., Beverly Hills, CA.

Essential Entertainment, Los Angeles, CA.

EuropaCorp, Paris, France.

Fabrication Films, Los Angeles, CA.

Film Department (The), West Hollywood, CA.

First California Bank, Los Angeles, CA.

First Look Studios, Century City, CA.

Foresight Unlimited, Bel Air, CA.

Freemantle Corporation (The), Toronto, Canada.

Fries Film Group, Inc., Woodland Hills, CA.

Gaiam Americas, Inc., New York, NY.

Gaumont, Neuilly-sur-Seine, France.

Golden Network Asia Limited, Kwun Tong, Hong Kong.

GreeneStreet Films, New York, NY.

HandMade Films International, London, United Kingdom.

Hollywood Wizard, Northridge, CA.

ICB Entertainment Finance, Glendale, CA.

IM Global, Beverly Hills, CA.

Imageworks Entertainment International, Inc., Chatsworth, CA.

Imagi Studios, Sherman Oaks, CA.

Imagination Worldwide, LLC, Beverly Hills, CA.

Independent Film Sales, London, United Kingdom.

Insight Film Releasing Ltd., Vancouver, Canada.

ITN Distribution, Inc., Las Vegas, NV.

Intandem Films, London, United Kingdom.

K5 International GmbH, Muenchen, Germany.

Kimmel International, New York, NY.

Koan Inc., Park City, UT.

Little Film Company (The), Studio City, CA.

Mainline Releasing, Santa Monica, CA.

MarVista Entertainment, Los Angeles, CA.

Maverick Global, a division of Maverick Entertainment Group, Inc., Deerfield Beach, FL.

Media 8 Entertainment, Sherman Oaks, CA.

Media Luna Entertainment, Cologne, Germany.

Myriad Pictures, Santa Monica, CA.

Neoclassics Films Ltd., Culver City, CA.

New Films International, Sherman Oaks, CA.

New Horizons Picture Corp., Los Angeles, CA.

NonStop Sales AB, Stockholm, Sweden.

Nordisk Film A/S, Valby, Denmark.

Odd Lot International, Culver City, CA.

Paramount Vantage International, Los Angeles, CA.

Park Entertainment Ltd., London, United Kingdom.

Passport International Entertainment, LLC, North Hollywood, CA.

Peace Arch Entertainment, Marina Del Rey, CA.

QED International, Los Angeles, CA.

Quantum Releasing LLC, Burbank, CA.

RHI Entertainment Distribution, LLC, New York, NY.

Rigel Entertainment, Los Angeles, CA.

Screen Capital International Corp., Beverly Hills, CA.

Screen Media Ventures, LLC, New York, NY.

SND, Neuilly sur Seine, France.

Sobini Films, Santa Monica, CA.

Spotlight Pictures, LLC, Hollywood, CA.

Starz Media, Burbank, CA.

Stevens Entertainment Group, Dallas, TX.

Tandem Communications, Munich, Germany.

Taurus Entertainment Company, Glendale, CA.

U.S. Bank, Los Angeles, CA.

UFO International Productions, Burbank, CA.

UK Film Council, London, United Kingdom.

Union Bank of California N.A., Los Angeles, CA.

Vision Films, Inc., Sherman Oaks, CA.

Voltage Pictures, Los Angeles, CA.

Wachovia Bank, Los Angeles, CA.

Weinstein Company (The), New York, NY.

Wild Bunch, Paris, France.

Worldwide Film Entertainment LLC, Los Angeles, CA.

Yari Film Group, LLC, Los Angeles, CA.

York International, Sherman Oaks, CA;

3. Delete the following companies as “Members” of the Certificate:

Alliance Communications Corporation, Beverly Hills, CA.

Alliance Atlantis Communication Corp., Toronto, Canada.

Arrow Films International Inc., New York, NY.

Artisan Entertainment, Santa Monica, CA.

Bank of America NT & SA, Los Angeles, CA.

Banque Paribas, Los Angeles, CA.

Behaviour Worldwide, Inc., Los Angeles, CA.

Beyond Films Ltd., Surry Hills, Australia.

Big Bear Licensing Corporation, Inc., Los Angeles, CA.

Bonneville Worldwide Entertainment, Encino, CA.

British Film Institute, London, United Kingdom.

Broadstar Entertainment Corporation, Hollywood, CA.

Buena Vista Film Sales, Burbank, CA.

Buena Vista Television, A Division of Disney/ABC Int'l TV Inc., Burbank, CA.

BV International Pictures AS, Avaldsnes, Norway.

Castle Hill Productions, Inc., New York, NY.

Cecchi Gori Group, Los Angeles, CA.

China Star Entertainment Group, TST, Kowloon, Hong Kong.

Cinema Financial Services, Inc., New York, NY.

Cinequanon Pictures International, Los Angeles, CA.

CLT-UFA, Beverly Hills, CA.

Concorde-New Horizons Corporation, Los Angeles, CA.

Cori International: Film and Television, Los Angeles, CA.

Coutts & Co./Natwest Group, Beverly Hills, CA.

Crown Int'l Pictures, Inc., Beverly Hills CA.

Discovery Communications, Inc., Bethesda, MD.

DZ Bank, London, United Kingdom.

Film Roman, Inc., Los Angeles, CA.

Filmfour International, London, United Kingdom.

Films (Guernsey) Limited.

Fleetboston Financial, Boston, MA.

Franchise Pictures, Los Angeles, CA.

Full Moon Pictures, Hollywood, CA.

G.E.L. Productions, Los Angeles, CA.

Golden Harvest Entertainment Co., Ltd., Beverly Hills, CA.

Good Times Entertainment, Inc., Bel Air, CA.

Hamdon Entertainment, Studio City, VA.

Han Entertainment, Hong Kong.

HBO Enterprises, New York, NY.

Hollywood Previews Entertainment, Inc., Santa Monica, CA.

Horizon Entertainment, Inc., Vancouver, Canada.

IAC Film & Television, London, United Kingdom.

Imperial Entertainment Group, Beverly Hills, CA.

In-Motion Pictures, Inc., London, United Kingdom.

Interlight Pictures, W. Hollywood, CA.

Intermedia, London, United Kingdom.

Intra Movies SRL, Rome, Italy.

J&M Entertainment, Los Angeles, CA.

JP Morgan Securities, Inc. Entertainment Industries Group, Los Angeles, CA.

Kevin Williams Associates, S.A., Madrid, Spain.

King World Productions, Inc., New York, NY.

Lewis Horwitz Organization, Los Angeles, CA.

Lolafilms, Madrid, Spain.

Lumiere International, Los Angeles, CA.

Marquee Entertainment Inc., Los Angeles, CA.

MCEG Sterling Entertainment, Los Angeles, CA.

Melrose Entertainment, Inc., Beverly Hills, CA.

MTG Media Properties, Ltd., New York, NY.

Noble Productions, Inc., Los Angeles, CA.

North American Releasing, Inc., Vancouver, Canada.

Oasis Pictures, Los Angeles, CA.

October Films International, New York, NY.

Overseas Film Group/First Look Pictures, Los Angeles, CA.

P.C. Films Corp., Nantucket, MA.

P.M. Entertainment, Sunland, CA.

Pacific Century Bank, Encino, CA.

Pandora Cinema, Santa Monica, CA.

Pearson Television International, Los Angeles, CA.

Phoenician Entertainment, Sherman Oaks, CA.

Playboy Entertainment Group, Inc., Beverly Hills, CA.

Powerhouse Entertainment Group, Inc., Beverly Hills, CA.

Quadra Entertainment, Beverly Hills, CA.

Quixote Productions, Los Angeles, CA.

Redwood Communications, Venice, CA.

Renaissance Films, Ltd., London, United Kingdom.

Republic Bank California N.A., Beverly Hills, CA.

Republic Entertainment, Inc., Los Angeles, CA.

RKO Pictures, Los Angeles, CA.

Rysher Entertainment, Santa Monica, CA.

Scanbox International, Inc., Studio City, CA.

Seven Arts Entertainment, Hollywood, CA.

Shapiro/Glickenhaus Ent., Studio City, CA.

Shooting Gallery, The, Beverly Hills, CA.

Silicon Valley Bank for the activities of its Entertainment Division, Los Angeles, CA.

Silver Star Film Corp., Los Angeles, CA.

Solo Entertainment Group, Inc., Beverly Hills, CA.

Spelling Films International, Los Angeles, CA.

Splendid Pictures, Inc., Bel Air, CA.

Stadtsparkasse Koeln, Entertainment Finance, Cologne, Germany.

Starway International, Los Angeles, CA.

The Norkat Company Limited, Beverly Hills, CA.

Tomorrow Film Corp., Santa Monica, CA.

Trident Releasing, Inc., Los Angeles, CA.

Trimark Pictures, Santa Monica, CA.

Trust Film Sales, Hvidovre, Denmark.

TVA Films, A Division of Group TVA, Inc., Montreal, Canada.

United Film Distributors, Inc., Los Angeles, CA.

Viacom Pictures/Showtime Networks, Universal City, CA.

Vine International Pictures, Ltd., Downe, Orpington, United Kingdom.

Vision International, Beverly Hills, CA.

World Films, Inc, Los Angeles, CA; and

4. Change the name and/or address listing of each of the following current Certificate Members:

Change “Alain Siritzky Productions (ASP), Paris, France” to “Alain Siritzky Productions (ASP), Los Angeles, CA”; “Arclight Films Pty. Ltd., Sydney, Australia” to “Arclight Films Pty. Ltd., Moore Park, Australia”; “Atrium Productions KFT, Rotterdam, The Netherlands” to “Atrium Productions KFT, Budapest, Hungary”; “Cinema Arts Entertainment, Beverly Hills, CA” to “Cinema Arts Entertainment, Los Angeles, CA”; “Comerica Bank-California, Los Angeles, CA” to “Comerica Entertainment Group, Los Angeles CA”; “Crystal Sky Communications, Los Angeles, CA” to “Crystal Sky Worldwide Sales LLC, Los Angeles, CA”; “Distant Horizon Ltd., Surrey, United Kingdom” to “Distant Horizon Ltd., Middlesex, United Kingdom”; “Dream Entertainment, Los Angeles, CA” to “Dream Entertainment, Beverly Hills, CA”; “Filmax-SOGEDASA, Barcelona, Spain” to “Filmax International, Barcelona, Spain”; “Green Communications, Burbank, CA” to “Green Communications, Hollywood, CA”; “Initial Entertainment, Los Angeles, CA” to “GK Films, LLC, Santa Monica, CA”; “Keller Entertainment Group, Sherman Oaks, CA” to “Keller Entertainment Group, Inc., Los Angeles, CA”; “Liberty International Entertainment, Inc., Los Angeles, CA” to “Liberation Entertainment, Inc., Los Angeles, CA”; “Lakeshore International, Hollywood, CA” to “Lakeshore Entertainment Group, LLC, Beverly Hill, CA”; “Lions Gate Films International, Los Angeles, CA” to “LIONSGATE, Santa Monica, CA”; “Miramax International, Los Angeles, CA” to “Miramax Films, New York, NY”; “Moonstone Entertainment, Beverly Hills, CA” to “Moonstone Entertainment, Studio City, CA”; “Motion Picture Corporation of America, Santa Monica, CA” to “Motion Picture Corporation of America, Los Angeles, CA”; “Natexis Bank—BFCE, Los Angeles, CA” to “Natixis Banques Populaires, Los Angeles, CA”; “New Line Cinema Corporation, Los Angeles, CA” to “New Line Cinema, Burbank, CA”; “North by Northwest Distribution, Spokane, WA” to “North by Northwest Entertainment, Spokane, WA”; “Omega Entertainment Ltd., Los Angeles, CA” to “Omega Entertainment Ltd., Zurich, Switzerland”; “Pathe International, Paris, France” to “Pathe Distribution, Paris, France”; “Promark Entertainment Group, Los Angeles, CA” to “Promark/Zenpix, Sherman Oaks, CA”; “Regent Entertainment, Los Angeles, CA” to “Regent Worldwide Sales LLC, Los Angeles, CA”; “Safir Films, Ltd., Middlesex, United Kingdom” to “Safir Films, Ltd., Harrow, United Kingdom”; “Studiocanal, Boulogne, France” to “StudioCanal, Issy Les Moulineaux, France”; “TF1 International, Boulogne Billancourt Cedex, France” to “TF1 International, Issy Les Moulineaux, France”; “The Works, London, United Kingdom” to “Works International (The), London, United Kingdom”; and “Troma Entertainment, Inc., New York, NY” to “Troma Entertainment, Inc., Long Island City, NY.”

Dated: February 25, 2009.
Jeffrey Anspacher,
Director, Export Trading Company Affairs.

[FR Doc. E9-4412 Filed 3-2-09; 8:45 am]

BILLING CODE 3510-DR-P